DEPARTMENT OF VETERANS

Veterans' Advisory Committee on Education, Notice of Meeting

The Department of Veterans Affairs (VA) gives notice under the Federal Advisory Committee Act, 5 U.S.C. App. 2., that the Veterans' Advisory Committee on Education (the Committee) will meet virtually using Microsoft Teams June 9, 2021-June 10, 2021 from 11:00 a.m. to 5:00 p.m., EST. The meeting sessions are open to the public.

The purpose of the Committee is to advise the Secretary of Veterans Affairs on the administration of education and training programs for Veterans, Service members, Reservists, and Dependents of Veterans including programs under Chapters 30, 32, 33, 35, and 36 of title 38, and Chapter 1606 of title 10, United States Code.

The purpose of the meeting is for the Committee to receive updates on Education Service initiatives, reports from three subcommittees (Modernization, On-the-Job Training/Apprenticeship and Distance Learning), and discuss progress thus far. This discussion will form the basis for recommendations to be further refined and finalized after the Committee's fall meeting.

Interested persons may attend. The meeting will be conducted using Microsoft Teams. Please email EDUSTAENG.VBAVACO@va.gov for an invitation link prior to June 8, 2021 or dial-in by phone (for audio only) 1-872-701-0185 United States, Chicago (Toll), Conference ID: 181 152 238#.

Although no time will be allotted for receiving oral presentations from the public, individuals wishing to share information with the Committee may submit written statements for the Committee's review to Mr. Joseph Maltby, Designated Federal Official, Department of Veterans Affairs, by email at EDUSTAENG.VBAVACO@va.gov. Comments will be accepted until close of business on Monday, June 7, 2021. In the communication, the writers must identify themselves and state the organization or association they represent for inclusion in the official record. Any member of the public wishing to participate or seeking additional information should contact Joseph Maltby at EDUSTAENG.VBAVACO@va.gov not later than June 8, 2021.

Dated: April 27, 2021.
Jelessa M. Burney,
Federal Advisory Committee Management Officer.

[FR Doc. 2021-09101 Filed 4-30-21; 8:45 am]

BILLING CODE 8320-01-P